POSTAL SERVICE

39 CFR Part 111

Delivery of Mail to a Commercial Mail Receiving Agency

AGENCY: Postal Service.

ACTION: Notice of proposed rule; extension of comment period.

SUMMARY: The Postal Service published in the Federal Register (66 FR 36224-36226) on July 11, 2001, a proposal to add section D042.2.8 to the Domestic Mail Manual to identify when an office business center (OBC)(sometimes called corporate executive center) or part of its operation is considered a commercial mail receiving agency for postal purposes. The Postal Service requested comments by August 10, 2001. Due to a request for additional time, the Postal Service is extending the comment period to September 17, 2001.

DATES: Comments on the proposed rule change must be received on or before September 17, 2001.

ADDRESSES: Written comments should be mailed to Manager, Delivery Operations, U.S. Postal Service, 475 L'Enfant Plaza SW., Room 7142, Washington, DC 20260-2802. Comments by email or fax will not be accepted. Copies of all written comments will be available for inspection and copying between 9 a.m. and 4 p.m., Monday through Friday, at the above address.

FOR FURTHER INFORMATION CONTACT: Roy E. Gamble, (202) 268-3197.

SUPPLEMENTARY INFORMATION: A representative of the OBC industry has requested an extension of time to file comments regarding the proposal published on July 11. The extension is requested to permit individual owners and officers of OBC and other interested parties to familiarize themselves with the proposal and, should they wish, prepare individual comments. The Postal Service believes that the public interest will be served by the fullest practicable exposition of views concerning this issue and accordingly extends the time for comments until September 17, 2001.

Stanley F. Mires,
Chief Counsel, Legislative.

[FR Doc. 01-19473 Filed 8-2-01; 8:45 am]

BILLING CODE 7710-12-P